DEPARTMENT OF LABOR

Employment and Training Administration

[TA-W-82,346]

Whirlpool Corporation; Including On-Site Leased Workers From Aerotek/Tek Systems (Subcontractor of IBM Corporation), Jones Lang Lasalle, and Otterbase, Inc. Fort Smith, Arkansas; Amended Certification Regarding Eligibility To Apply for Worker Adjustment Assistance

In accordance with Section 223 of the Trade Act of 1974, as amended (“Act”), 19 U.S.C. 2273, the Department of Labor issued a Certification of Eligibility to Apply for Worker Adjustment Assistance on May 10, 2013, applicable to workers of Whirlpool Corporation, including on-site leased workers from Aerotek/Tek Systems (subcontractor of IBM Corporation), Fort Smith, Arkansas. The Department's notice of determination was published in the Federal Register on May 30, 2013 (78 FR 32464).

At the request of the State Workforce Office, the Department reviewed the certification for workers of the subject firm. The workers were engaged in production of refrigerators and trash compactors as well as decommissioning work for the facility closure.

The Department confirmed that workers leased from Jones Lang LaSalle and Otterbase, Inc. were employed on-site at the Fort Smith, Arkansas location of Whirlpool Corporation. The Department has determined that these workers were sufficiently under the control of the subject firm to be considered leased workers.

Based on these findings, the Department is amending this certification to include workers leased from Otterbase, Inc. working on-site at the Fort Smith, Arkansas location of Whirlpool Corporation.

The amended notice applicable to TA-W-82,346 is hereby issued as follows:

All workers of Whirlpool Corporation, including on-site leased workers from Aerotek/Tek Systems (subcontractor of IBM Corporation), Jones Lang LaSalle, and Otterbase, Inc., Fort Smith, Arkansas, who became totally or partially separated from employment on or after October 7, 2012 through May 10, 2015, and all workers in the group threatened with total or partial separation from employment on the date of certification through May 10, 2015, are eligible to apply for adjustment assistance under Chapter 2 of Title II of the Trade Act of 1974, as amended.

Signed in Washington, DC, this 11th day of December, 2014.
Michael W. Jaffe,
Certifying Officer, Office of Trade Adjustment Assistance.

[FR Doc. 2014-30164 Filed 12-23-14; 8:45 am]

BILLING CODE 4510-FN-P